DEPARTMENT OF DEFENSE

Office of the Secretary

Meeting of the Defense Department Advisory Committee on Women in the Services (DACOWITS)

AGENCY: Department of Defense (DoD).

ACTION: Notice.

SUMMARY: Pursuant to section 10(a), Public Law 92-463, as amended, notice is hereby given of a forthcoming meeting of the Defense Department Advisory Committee on Women in the Services (DACOWITS). The purpose of the meeting is for the Committee to discuss their vision and priorities for the upcoming year and receive briefing from Sexual Assault and Prevention and Response Office. The meeting is open to the public, subject to the availability of space.

DATES: The meeting will be held on June 3, 2010, from 8:30 a.m. to 3 p.m.

ADDRESSES: The meeting will be held at the Doubletree Hotel, 300 Army Navy Dr., Arlington, VA 22202.

FOR FURTHER INFORMATION CONTACT: MSgt Robert Bowling, USAF, DACOWITS, 4000 Defense Pentagon, Room 2C548A, Washington, DC 20301-4000. Robert.bowling@osd.mil Telephone (703) 697-2122. Fax (703) 614-6233.

SUPPLEMENTARY INFORMATION:

Meeting Agenda

June 3, 2010, From 8:30 a.m.-3 p.m.

—Welcome, introductions, and announcements

—Discussion on Committee's vision, philosophy, and topics to pursue

—Briefings from Sexual Assault Prevention and Response Office

—Public Forum

Written Statements

Individuals submitting a written statement may submit their statement to the Point of Contact listed under FOR FURTHER INFORMATION CONTACT at any time. However, written statements must be received by 5 p.m. on Tuesday, June 1, 2010, to be provided to and considered by the Committee for the meeting that is the subject of this notice. Statements received after 5 p.m. on June 1, 2010, may not be provided to or considered by the Committee until its next open meeting. The Designated Federal Officer will review all timely submissions with the Defense Department Advisory Committee on Women in the Services Chairperson and ensure they are provided to the members of the Defense Department Advisory Committee on Women in the Services. If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Thursday, June 3, 2010, from 2 p.m. to 2:30 p.m. before the full Committee. Number of oral presentations to be made will depend on the number of requests received from members of the public.

Dated: May 4, 2010.
Mitchell S. Bryman,
Alternate OSD Federal Register Liaison Officer, Department of Defense.

[FR Doc. 2010-10846 Filed 5-6-10; 8:45 am]

BILLING CODE 5001-06-P